ENVIRONMENTAL PROTECTION AGENCY

(ER-FRL-6643-9)

Environmental Impact Statements; Notice of Availability

Responsible Agency: Office of Federal Activities, General Information (202) 564-7167 or http://www.epa.gov/compliance/nepa.

Weekly receipt of Environmental Impact Statements

Filed September 08, 2003 Through September 12, 2003 Pursuant to 40 CFR 1506.9.

EIS No. 030416, Final EIS, APH, Importation of Solid Wood Packing Material, To Exclude, Eradicate and/or Control Invasive Alien Agricultural Pest, Implementation, United States, Wait Period Ends: October 20, 2003, Contact: David A. Bergsten (301) 734-6103.

EIS No. 030417, Draft EIS, AFS, NM, Surface Management of Gas Leasing and Development in the Carson National Forest, Implementation, Jicarilla Ranger District, Rio Arriba County, NM, Comment Period Ends: November 3, 2003, Contact: Tom Dwyer (505) 758-6272. This document is available on the Internet at: http://www.fs.fed.us/r3/carson.

EIS No. 030418, Draft EIS, AFS, MI, Baltimore Vegetative Management Project, Implementation, Ottawa National Forest, Ontonagon Ranger District, Ontonagon County, MI, Comment Period Ends: November 3, 2003, Contact: Bruce Prud'homme (906) 884-2085.

EIS No. 030419, Draft EIS, AFS, NM, Magdelena Ridge Observatory Project, Construct and Operate an Observatory in the Magdelena Mountains, Cibola National Forest, Magdelena Ranger District, Socorro County, NM, Comment Period Ends: November 3, 2003, Contact: Laura Hudnell (505) 854-2281.

EIS No. 030420, Draft EIS, HHS, MD, Integrated Research Facility (IRF) at Fort Detrick Construction and Operation, Adjacent to Existing U.S. Army Medical Research Institute of Infectious Diseases Facilities, City of Frederick, Frederick County, MD, Comment Period Ends: November 3, 2003, Contact: Ron Wilson (301) 496-5037.

EIS No. 030421, Final EIS, DOE, CA, Sacramento Area Voltage Support Project, System Reliability and Voltage Support Improvements, Sierra Nevada Region, Alameda, Contra Costa, Placer, Sacramento, San Joaquin and Sutter Counties, CA, Wait Period Ends: October 20, 2003, Contact: Loreen McMahon (916) 353-4460. This document is available on the Internet at: http://www.wapa.gov.

EIS No. 030422, Draft EIS, BPA, WA, BP Cherry Point Cogeneration Project, To Build a 720-megawatt Gas-Fired Combined Cycle Cogeneration Facility, Energy Facility Site Evaluation Council (EFSEC), Whatcom County, WA, Comment Period Ends: November 3, 2003, Contact: Thomas C. McKinney (503) 230-4749.

EIS No. 030423, Draft EIS, NOA, WA, CA, OR, Pacific Coast Groundfish Fishery Management Plan (FMP) Amendment 16-2, Rebuilding Plans for: Darkblotched Rockfish, Pacific Ocean Perch, Canary Rockfish, and Lingcod, Maximum Sustainable Yield (MSY) Magnuson-Stevens Fishery Conservation and Management Act, WA, OR, CA and Boundary of U.S. EEZ, Comment Period Ends: November 3, 2003, Contact: D. Robert Lohn (206) 526-6150.

EIS No. 030424, Final EIS, BIA, CA, Jamul Indian Village (Tribe) 101 Acre Fee-to-Trust Transfer and Casino Project, Implementation, San Diego County, CA, Wait Period Ends: November 3, 2003, Contact:William Allan (916) 978-6043.

EIS No. 030425, Final EIS, EPA, AK, Pogo Gold Mine Project, Underground Mine Construction and Operation, NPDES and U.S. Army COE Section 404 Permits Issuance, Goodpaster River Valley, Delta Junction, AK, Wait Period Ends: October 20, 2003, Contact: Hanh Gold (206) 553-0171.

Amended Notices

EIS No. 030367, Draft EIS, IBR, CA, Freeport Regional Water Project, To Construct and Operate a Water Supply Project to Meet Regional Water Supply Needs, Sacramento County Water Agency (SCWA) and the East Bay Municipal Utility District (EBMUD), Alameda, Contra Costa, San Joaquin, Sacramento Counties, CA, Comment Period Ends: October 7, 2003, Contact: Rod Schroeder (916) 989-7274. Revision of FR Notice Published on 8/15/2003: CEQ Comment Period Ending 9/29/2003 has been Extended to 10/7/2003.

EIS No. 030394, Draft Supplement, NOA, MA, ME, RI, NH, CT, Northeast Multispecies Fishery Management Plan, Amendment 13, New Information concerning Management Alternatives and Impact Analysis, Adoption, Approval and Implementation, New England Management Council, ME, HH, VT, MA, RI, CT, NY, NJ, DE, MD, VA and NC, Comment Period Ends: October 15, 2003, Contact: Paul Howard (978) 465-0492. Revision of FR Notice Published on 8/29/2003: Title Correction.

EIS No. 030411, Final EIS, FHW, WY, Wyoming Forest Highway 4 U.S. 212 (KP 39.5 to KP 69.4) the Beartooth Highway, A Portion Proposed for Reconstruction begins 7.1 miles east of the Junction of WY-296 (Chief Joseph Highway) and Proceeds East for 18.6 miles to the Wyoming/Montana State Line, Park County, WY, Wait Period Ends:October 14, 2003, Contact: Jennifer Corwin (303) 716-2097. Revision of FR Notice Published on 9/12/2003: Correction to Telephone Number.

Dated: September 16, 2003.
Joseph C. Montgomery,
Director, NEPA Compliance Division, Office of Federal Activities.

[FR Doc. 03-24001 Filed 9-18-03; 8:45 am]

BILLING CODE 6560-50-P